DEPARTMENT OF LABOR

Employee Benefits Security Administration

200th Meeting of the Advisory Council on Employee Welfare and Pension Benefit Plans; Notice of Teleconference Meeting

Pursuant to the authority contained in Section 512 of the Employee Retirement Income Security Act of 1974 (ERISA), 29 U.S.C. 1142, the 200th open meeting of the Advisory Council on Employee Welfare and Pension Benefit Plans (also known as the ERISA Advisory Council) will be held via a teleconference on Thursday, July 30, 2020.

The meeting will occur from 1:00 p.m. to approximately 5:00 p.m. (ET). The purpose of the open meeting is to set the topics to be addressed by the Council in 2020. Also, the ERISA Advisory Council members will receive an update from leadership of the Employee Benefits Security Administration (EBSA).

Instructions for the public to attend the teleconference will be posted on the ERISA Advisory Council's web page at https://www.dol.gov/agencies/ebsa/about-ebsa/about-us/erisa-advisory-council prior to the meeting.

Organizations or members of the public wishing to submit a written statement may do so on or before Thursday, July 23, 2020, to Christine Donahue, Executive Secretary, ERISA Advisory Council. Statements should be transmitted electronically as an email attachment in text or pdf format to donahue.christine@dol.gov. Statements transmitted electronically that are included in the body of the email will not be accepted. Relevant statements received on or before Thursday, July 23, 2020, will be included in the record of the meeting. No deletions, modifications, or redactions will be made to the statements received, as they are public records.

Individuals or representatives of organizations wishing to address the ERISA Advisory Council should forward their requests to the Executive Secretary no later than Thursday, July 23, 2020, via email to donahue.christine@dol.gov or by telephoning (202) 693-8641. Oral presentations will be limited to ten minutes, time permitting, but an extended statement may be submitted for the record.

Individuals with disabilities who need special accommodations, or others who need special accommodations, should contact the Executive Secretary no later than Thursday, July 23, 2020, via email to donahue.christine@dol.gov or by telephoning (202) 693-8641.

For more information about the meeting, contact the Executive Secretary via email to donahue.christine@dol.gov or by telephoning (202) 693-8641.

Signed at Washington, DC this 26th day of June, 2020.
Jeanne Klinefelter Wilson,
Acting Assistant Secretary, Employee Benefits Security Administration.

[FR Doc. 2020-14228 Filed 7-1-20; 8:45 am]

BILLING CODE 4510-29-P